DEPARTMENT OF EDUCATION

[Docket No.: ED-2023-SCC-0103]

Agency Information Collection Activities; Submission to the Office of Management and Budget for Review and Approval; Comment Request; Application for the Language Resource Centers (LRC) Program (1894-0001)

AGENCY: Office of Postsecondary Education (OPE), Department of Education (ED).

ACTION: Notice.

SUMMARY: In accordance with the Paperwork Reduction Act (PRA) of 1995, the Department is proposing an extension without change of a currently approved information collection request (ICR).

DATES: Interested persons are invited to submit comments on or before July 24, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Carolyn Collins, (202) 987-1945.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Application for the Language Resource Centers (LRC) Program (1894-0001).

OMB Control Number: 1840-0808.

Type of Review: Extension without change of a currently approved ICR.

Respondents/Affected Public: Private Sector.

Total Estimated Number of Annual Responses: 27.

Total Estimated Number of Annual Burden Hours: 675.

Abstract: This information collection (OMB 1840-0808) includes application instructions and forms for the Language Resource Centers (LRC) Program (CFDA Number 84.229A), authorized under Title VI of the Higher Education Act of 1965, as amended (20 U.S.C. 1123). The type of collection is an extension of the currently approved information collection (application). However, the hour burden of the collection decreases because of a Program Change due to Agency Discretion. This discretionary grant falls under the Streamlined Clearance Process for Discretionary Grant Information Collections, 1894-0001.

The Language Resource Centers program provides grants to institutions of higher education to establish, strengthen, and operate national language resource and training centers for improving the nation's capacity for teaching and learning foreign languages through teacher training, research, instructional materials development, and dissemination projects. This program responds to the ongoing national need for individuals with expertise and competence in world languages; advance national security by developing a pipeline of highly proficient linguists; and contribute to developing a globally competent workforce able to engage with a multilingual/multicultural clientele at home and abroad.

This collection is being submitted under the Streamlined Clearance Process for Discretionary Grant Information Collections (1894-0001). Therefore, the 30-day public comment period notice will be the only public comment notice published for this information collection.

Dated: June 15, 2023.
Kun Mullan,
PRA Coordinator, Strategic Collections and Clearance, Governance and Strategy Division, Office of Chief Data Officer, Office of Planning, Evaluation and Policy Development.

[FR Doc. 2023-13198 Filed 6-21-23; 8:45 am]

BILLING CODE 4000-01-P